DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Social Network Analysis of a Service System for Transition Aged Youth—New

SAMHSA's, Center for Mental Health Services will seek information about the change in the network of social services in one community, Clark County Washington, as a result of a Center for Mental Health Services funded grant initiative, the Options Program. The Options Program was one of 5 funded sites across the country. Each site received four years of funding to build comprehensive supports that help adolescents with serious emotional disturbance and their families make the difficult transition from adolescent to adult functioning through the age of 25. This grant program, called the Partnerships for Youth Transition, aims to remediate some of the most difficult system barriers that interfere with transition system building by providing community leaders and advocates funding for direct services and infrastructure building, technical assistance to help shape the vision, and time to establish programs and interagency relationships. Since no single site in the country has ever successfully built a transition support system we do not know whether combining the resources of this grant, with the resources of the community are sufficient to make significant strides in transition system building. It is imperative to answer this question systematically and rigorously in order to guide future efforts.

There have been 110 agencies identified in Clark County that could potentially serve youth or young adults with serious mental, emotional and behavioral disorders. This study will conduct network analysis by interviewing one key informant from each of these programs about their organization's professional relationship with other social services. The Social Network Questionnaire was previously developed for use in several studies in mental health and homeless services. Questions focus on aspects of professional relationship such as how often clients are referred to another agency and how often staff meet for client planning purposes with staff from another agency, as well as some background information about the agency and the quality of services offered. An additional 10 items focus on whether the program is following guidelines for exemplary practice with transition aged youth. Findings will be compared to data collected prior to program initiation.

The following table summarizes the estimated response burden for this project.

Respondent | Number of respondents | Responses/ respondent | Total responses | Hours per response | Total hour burden
Key informants from social services in Clark County | 110 | 1 | 110 | 1.25 | 137.5

Written comments and recommendations concerning the proposed information collection should be sent by October 10, 2006 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: August 28, 2006.
Anna Marsh,
Director, Office of Program Services.

[FR Doc. E6-14812 Filed 9-6-06; 8:45 am]

BILLING CODE 4162-20-P